DEPARTMENT OF TRANSPORTATION

Federal Transit Administration

Preparation of Alternatives Analysis With the Intent of Preparing an Environmental Impact Statement for the Orlando International Airport Connector; Orange County, FL

AGENCY: Federal Transit Administration (FTA), DOT.

ACTION: Notice of intent to prepare an Environmental Impact Statement (EIS).

SUMMARY: The Florida Department of Transportation (FDOT), in consultation with the Federal Transit Administration (FTA) and the Central Florida Regional Transportation Authority (CFRTA, locally known as LYNX), is issuing this notice to advise the public that FDOT and LYNX intend to conduct a Scoping Meeting and an Alternatives Analysis, leading to the preparation of an Environmental Impact Statement (EIS) that would comply with all FTA requirements and in accordance with the National Environmental Policy Act (NEPA) of 1969, as amended and the regulations of the Council on Environmental Quality (CEQ) and all other relevant Federal, State and local regulations and requirements. This EIS will be prepared to evaluate a transit system that would connect the International Drive (I-Drive) Corridor to the Orlando International Airport (OIA) in Orange County, Florida.

This Notice of Intent is being published at this time to notify interested parties and to solicit participation in the study. The objective of the Alternatives Analysis is to identify a Locally Preferred Alternative (LPA) that can then be evaluated further as part of the EIS phase of project development. The proposed project is planned to link to the 22-mile North-South Light Rail Transit (LRT) system currently under evaluation. The proposed connection to the LRT system will occur in the area of the Orange County Convention Center or the Belz Factory Outlet. The project study area extends from the International Drive (I-Drive) Corridor to the Orlando International Airport (OIA). Alternatives will be studied for connecting to OIA from the south and from the north.

The following alternatives will be evaluated as part of this study: (1) A No Action (No Build) Alternative; (2) A Transportation Systems Management (TSM) Alternative; and (3) two or more Build Alternatives.

DATES: Comment Due Date: Written comments on the scope of alternatives and impacts to be considered should be directed to Ms. Tawny Olore, Rail Transit Project Manager, Florida Department of Transportation—District 5, 719 South Woodland Boulevard, MS 2-543, DeLand, Florida, 32720 by April 12, 2004. Scoping Meeting: Scoping for the study will be developed during review of previous studies and consultation with affected agencies and interested persons through correspondence and at public meetings.

ADDRESSES: A Scoping Meeting will be conducted to provide the purpose of the study, describe the process that will be followed, define the limits of the study area, to answer any questions that may exist, and to receive comments, thoughts, and/or opinions relevant to the study. The meeting will be held on Wednesday, February 25, 2004 from 8:30 a.m. to 11 a.m. at the Orange County Convention Center in the Lecture Hall, Room W300, located at 9800 International Drive, Orlando, Florida 32819. Persons with disabilities, in accordance with the Americans and Disabilities Act of 1990, who may require special accommodations, to participate in the Scoping Meeting should contact Ms. Karen Campblin, Public Involvement Coordinator, at least seven (7) calendar days prior to the meeting date. Please send a request to the following address: Ms. Karen Campblin, Public Involvement Coordinator, Glatting Jackson, 33 East Pine Street, Orlando, Florida 32801, phone: (407) 843-6552; toll free: (800) 496-2768 extension 1006; fax: (407) 839-1789; e-mail: kcampblin@glatting.com.

FOR FURTHER INFORMATION CONTACT: Ms. Tawny Olore, Rail Transit Project Manager, Florida Department of Transportation—District 5, 719 South Woodland Boulevard, MS 2-543, DeLand, Florida 32720, phone: (386) 943-5707, e-mail: tawny.olore@dot.state.fl.us. You may also contact Mr. Derek R. Scott, Community Planner, Federal Transit Administration, 61 Forsyth Street, SW., Suite 17T50, Atlanta, Georgia 30303, phone: (404) 562-3524.

SUPPLEMENTARY INFORMATION:

1. Notice of Intent

This Notice of Intent to prepare an Alternatives Analysis leading to an Environmental Impact Statement is being published at this time to advise interested parties of the study and to solicit comment from the general public. FTA regulations and guidance, in accordance with NEPA, will be used in the analysis and preparation of the OIA Connector Transit Study.

2. Scoping

Both FTA and FDOT encourage you to provide comments at the Scoping Meeting as discussed previously and will accept written comments for up to 45 days following the meeting date. Comments should focus on the scope of the alternatives and any specific social, economic, or environmental impacts to be considered as part of this study.

Persons wishing to be placed on a mailing list to receive further information as the study progresses, please contact Ms. Karen Campblin, Public Involvement Coordinator, Glatting Jackson, 33 East Pine Street, Orlando, Florida 32801, phone: (407) 843-6552; toll free: (800) 496-2768 extension 1006; fax: (407) 839-1789; e-mail: kcampblin@glatting.com.

3. Study Area and Project Need

The project study area for the OIA Connector extends from the I-Drive Corridor to the Orlando International Airport. The study area is generally bounded by Hoffner Avenue on the north, the Central Florida GreeneWay (SR 417) on the south, Narcoossee Road on the east, and Interstate 4 on the west. The OIA Connector is planned to link to the 22-mile North-South LRT system currently under study. The proposed connection to the LRT system will occur in the area of the Orange County Convention Center in the I-Drive Corridor or the Belz Factory Outlet. The proposed project traverses the southern portion of unincorporated Orange County and passes through areas of the Cities of Orlando and Belle Isle.

The purpose of this study is to develop a multi-modal transit system that would provide system linkage in the Central Florida area and serve as an alternative mode of travel to highways. This project is expected to provide an approach to transportation solutions by evaluating several alternative alignments, which would ultimately identify a LPA for this proposed transit system. By integrating the multi-modal system into the overall transportation network within the OIA corridor, the integrity of the highway system is maintained, while improving local access to the surrounding community.

Factors that constitute the need for the OIA Connector include meeting existing and future travel demands, loss of mobility due to the projected increase in traffic on the major roadways within the corridor, and projected expansion at the Airport, as identified in the OIA Master Plan. To keep up with the tremendous growth in south Orange County, METROPLAN ORLANDO (metropolitan planning organization (MPO) for the Orlando, Florida Transportation Management Area) has identified the need for this project. The need for the OIA Connector is consistent with METROPLAN ORLANDO's 2020 Long Range Transportation Plan Update (adopted December 2000). However, this project is currently not listed in any local government comprehensive plans, including Orange County and the City of Orlando.

4. Alternatives

A number of transportation alternatives will be evaluated as part of this study. These include: (1) A No Action (No Build) Alternative that consists of existing and programmed transportation improvements as identified in METROPLAN ORLANDO's Cost Feasible 2020 Long Range Transportation Plan Update, which includes the North-South LRT system. This alternative serves as the NEPA baseline. (2) The TSM Alternative includes enhanced LYNX bus services and facilities in addition to other TSM-related projects. This alternative is defined as low-cost operational improvements identified to address transportation problems in the corridor. (3) Build Alternatives that may include a combination of the above modes with various alternative alignments using both street and/or highway corridors. These alternatives would ultimately link to the proposed North-South line.

As part of the Alternatives Analysis, capital, operating, and maintenance costs and other financial impacts will be evaluated. Upon the selection and screening of a set of initial alternatives, a set of conceptual alternatives will be identified and undergo an evaluation process to be further refined. A detailed analysis of the refined alternatives will be undertaken during the Alternatives Analysis and subsequent draft EIS phase of project development. These refined, conceptual viable alternatives will ultimately be presented to the public and agencies at a series of public workshops. Upon the selection of a Build Alternative, FDOT will then request that METROPLAN ORLANDO review and approve the LPA selection. Once the LPA is approved, the MPO will consider including the LPA in the Cost Feasible Plan of the MPO's Long Range Transportation Plan.

5. Probable Effects

Should the study proceed from the Alternatives Analysis to an Environmental Impact Statement, preliminary steps will be taken to allow FTA and FDOT to evaluate the project's potential for significant adverse impacts during construction and operation. Analysis of socio-economic impacts would include the evaluation of land use and neighborhood impacts, parks and recreational areas, historic and archaeological resources, displacement and environmental justice (disproportionate adverse impacts on minority and low-income populations), visual and aesthetic impacts, transit (ridership, operations, and maintenance), traffic, and parking. Impacts to the natural environment would include Outstanding Florida Waters, Wild and Scenic Rivers, aquatic preserves, wetlands, and threatened and endangered species. The physical impact analysis would include the evaluation of noise and vibration, air quality, energy, potential hazardous materials, water quality, and coastal zone consistency. The environmental evaluation would consider construction and cumulative and secondary impacts. Measures to mitigate any adverse impacts would also be addressed.

In addition, this study is being completed with other transit initiative studies that are currently underway. These projects include: (1) Canadian Court Intermodal Center; (2) International Drive Circulator; (3) Florida High Speed Rail; (4) Orlando International Airport (OIA) Intermodal Center; (5) North-South Light Rail Transit; and (6) Central Florida North/South Commuter Corridor Alternatives Analysis. Although the above-mentioned studies are freestanding and capable of independent utility, all projects will continue to be closely monitored to ensure project consistency. Additional information on these other independent transit initiatives, may be obtained from Ms. Tawny Olore, Rail Transit Project Manager, Florida Department of Transportation—District 5, 719 South Woodland Boulevard, MS 2-543, DeLand, Florida, 32720, phone: (386) 943-5707; e-mail: tawny.olore@dot.state.fl.us.

6. OIA Intermodal Center

As part of the OIA Connector Scoping Meeting, information on the OIA Intermodal Center will be presented. The FDOT in consultation with the FTA, and the Greater Orlando Aviation Authority (GOAA) is preparing NEPA documentation for a new Intermodal Center at OIA in order to accommodate high-speed rail, light rail, and other private/public modes of transportation. The study will comply with FDOT, FTA, Federal Aviation Administration (FAA), Federal Railroad Administration (FRA), and the Transportation Security Administration (TSA) requirements. The OIA Intermodal Center project is freestanding and capable of independent operation.

7. FTA Procedures

In accordance with FTA policy, all Federal laws, regulations, and executive orders affecting project development, including but not limited to the regulations of the Council on Environmental Quality and FTA implementing NEPA (40 CFR parts 1500-1508, and 23 CFR part 771), the 1990 Clean Air Act Amendments, section 404 of the Clean Water Act, Executive Order 12898 regarding Environmental Justice, the National Historic Preservation Act, the Endangered Species Act, and section 4(f) of the DOT Act, will be addressed to the maximum extent practicable during the NEPA process. In addition, following selection and adoption of the LPA, FDOT may seek FTA Section 5309 New Starts funding for the LPA, and therefore, will be subject to the FTA New Starts Regulations (49 CFR part 611). This New Starts regulation requires submission of information specified by FTA to support FDOT's request to initiate Preliminary Engineering. The Alternatives Analysis and subsequent Preliminary Engineering activities are to be executed in conjunction with the NEPA process.

Issued on: February 6, 2004.
George T. Thomson,
Acting FTA Regional Administrator.

[FR Doc. 04-2988 Filed 2-10-04; 8:45 am]

BILLING CODE 4910-57-P